DEPARTMENT OF ENERGY

Federal Energy Regulatory Commission

[Docket Nos. RP00-327-004 and RP00-604-004]

Columbia Gas Transmission Corporation; Notice of Compliance Filing

August 23, 2002.

Take notice that on August 19, 2002, Columbia Gas Transmission Corporation (Columbia) tendered for filing as part of its FERC Gas Tariff, Second Revised Volume No. 1, revised tariff sheets, listed in Appendix A to the filing.

Columbia states that the filing is made to revise various tariff sheets filed in Docket No. RP00-326-000 on July 31, 2001 pursuant to Order No. 637 and Order No. 637-A in compliance with the Commission's July 19, 2002 Order (100 FERC ¶ 61,084).

Columbia states that copies of its filing have been mailed to all firm customers, interruptible customers, parties on the official service list of this proceeding, and affected state commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-22033 Filed 8-28-02; 8:45 am]

BILLING CODE 6717-01-P